DEPARTMENT OF THE TREASURY

Submission for OMB Review; Comment Request

January 9, 2017.

The Department of the Treasury will submit the following information collection request to the Office of Management and Budget (OMB) for review and clearance in accordance with the Paperwork Reduction Act of 1995, Public Law 104-13, on or after the date of publication of this notice.

DATES: Comments should be received on or before February 13, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

SUPPLEMENTARY INFORMATION:

Community Development Financial Institutions (CDIF) Fund

OMB Control Number: 1559-0005.

Type of Review: Revision of a currently approved collection.

Title: Bank Enterprise Award Program Application.

Form: 201611.

Abstract: The BEA Program provides incentives to insured depository institutions to increase their support of CDFIs and their activities in economically distressed communities.

Affected Public: Business or other for-profits.

Estimated Total Annual Burden Hours: 4,500.

Bob Faber,
Treasury PRA Clearance Officer.

[FR Doc. 2017-00504 Filed 1-11-17; 8:45 am]

BILLING CODE 4810-70-P